GULF COAST ECOSYSTEM RESTORATION COUNCIL

Notice of Proposed Subaward Under a Council-Selected Restoration Component Award

AGENCY: Gulf Coast Ecosystem Restoration Council.

ACTION: Notice.

SUMMARY: The Gulf Coast Ecosystem Restoration Council (Council) publishes notice of a proposed subaward from the Texas Commission on Environmental Quality (TCEQ) to the Nature Conservancy (TNC), a nonprofit organization, for the purpose of acquiring three properties in the Bahia Grande Coastal Corridor in accordance with the Bahia Grande Coastal Corridor Implementation Award as approved in the Initial Funded Priority List.

FOR FURTHER INFORMATION CONTACT: Please send questions by email to raams_pgmsupport@restorethegulf.gov.

SUPPLEMENTARY INFORMATION: Section 1321(t)(2)(E)(ii)(III) of the RESTORE Act (33 U.S.C. 1321(t)(2)(E)(ii)(III)) and Treasury's implementing regulation at 31 CFR 34.401(b) require that, for purposes of awards made under the Council-Selected Restoration Component, a State or Federal award recipient may make a grant or subaward to or enter into a cooperative agreement with a nongovernmental entity that equals or exceeds 10 percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award. This notice accomplishes the Federal Register requirement.

Description of Proposed Action

As specified in the Initial Funded Priority List, which is available on the Council's Web site at https://www.restorethegulf.gov/council-selected-restoration-component/funded-priorities-list, RESTORE Act funds will support the Bahia Grande Coastal Corridor Implementation Award (Bahia Grande Award) to TCEQ. Through this Award of $4,378,500, approximately 1,852 acres of land will be conserved through fee title acquisition from willing sellers and added to a 105,000 acre corridor of conservation lands that includes the Laguna Atascosa National Wildlife Refuge (NWR), Boca Chica State Park, and the Lower Rio Grande Valley NWR. Property acquisitions under the Bahia Grande Award will be accomplished through a subaward in the amount of $4,363,391 from TCEQ to TNC. Through the subaward, TNC will acquire three properties in the Bahia Grande Coastal Corridor, which are expected to ultimately become part of the Laguna Atascosa NWR. These properties will connect Laguna Atascosa NWR, Lower Rio Grande Valley NWR, and Boca Chica State Park, as well as over 2 million acres of intact habitat on private ranchland with the 1.3 million acre Rio Bravo Protected Area. The connection provided by these properties will provide additional protection for, and could prevent future listing of State-threatened species like the reddish egret, Botteri's sparrow, white-tailed hawk, white-faced ibis, Texas tortoise, Texas indigo snake and Texas horned lizard. Conserving additional portions of the Bahia Grande wetland system and portions of its watershed will secure valuable freshwater inflows and allow partners to complete hydrological restoration needed to increase tidal flows and divert freshwater inflows needed to fully restore this system.

Will D. Spoon,
Program Analyst, Gulf Coast Ecosystem Restoration Council.

[FR Doc. 2016-28316 Filed 11-22-16; 8:45 am]

BILLING CODE 6560-58-P